DEPARTMENT OF TRANSPORTATION

Office of the Secretary

Aviation Proceedings, Agreements Filed the Week Ending September 10, 2004

The following Agreements were filed with the Department of Transportation under the provisions of 49 U.S.C. 412 and 414. Answers may be filed within 21 days after the filing of the application.

Docket Number: OST-2004-19088.

Date Filed: September 8, 2004.

Parties: Members of the International Air Transport Association.

Subject: PTC23 EUR-J/K 0116 dated 10 September 2004, TC23/TC123 Europe-Japan, Korea, Expedited Resolution 002w r1, Intended effective date: 15 January 2005.

Andrea M. Jenkins,
Program Manager, Docket Operations, Federal Register Liaison.

[FR Doc. 04-21249 Filed 9-21-04; 8:45 am]

BILLING CODE 4910-62-P